DEPARTMENT OF THE INTERIOR

Bureau of Land Management

[LLWY920000.L51010000.ER0000.LVRWK09K1000.15X; WYW174597; COC72909; UTU87237]

Notice of Availability of the Record of Decision for the Energy Gateway South Transmission Project and Approved Land Use Plan Amendments in Colorado, Utah, and Wyoming

AGENCY: Bureau of Land Management, Interior.

ACTION: Notice.

SUMMARY: The Bureau of Land Management (BLM) announces the availability of the Record of Decision (ROD) for the Energy Gateway South Transmission Project (Project) and approved land use plan amendments of the Rawlins, Little Snake, Pony Express, Price, and Vernal Resource Management Plans (RMPs). The ROD constitutes the BLM's final decision regarding: granting a right-of-way to PacifiCorp (doing business as Rocky Mountain Power) to construct and operate an extra-high voltage alternating-current transmission system; and amending certain BLM land use plans. The decisions are effective immediately.

ADDRESSES: The complete text of the ROD along with the Final Environmental Impact Statement (EIS) and supporting documents are available for public viewing on the BLM Web site: http://bit.ly/2eErxWA.

Copies of the ROD text will be placed in all involved BLM offices for public viewing as well as at public libraries in Colorado, Utah, and Wyoming. For a list of these libraries, please see the SUPPLEMENTARY INFORMATION section below.

FOR FURTHER INFORMATION CONTACT: Tamara Gertsch, National Project Manager, Bureau of Land Management, Wyoming State Office, P.O. Box 21150, Cheyenne, WY 82003; by telephone at (307) 775-6115; or email to GatewaySouth_WYMail@blm.gov. Persons who use a telecommunications device for the deaf may call the Federal Relay Service (FRS) at (800) 877-8339 to contact the above individual during normal business hours. The FRS is available 24 hours a day, 7 days a week, to leave a message or question with the above individual. You will receive a reply during normal business hours.

SUPPLEMENTARY INFORMATION: Copies of the ROD text are available at the following public libraries:

• Carbon County Library, Rawlins, WY;

• Carbon County Library-Little Snake River Branch, Baggs, WY;

• Moffat County Library, Craig, CO;

• Rangely Regional Library District, Rangely, CO;

• Mesa County Library, Grand Junction, CO;

• Grand County Public Library, Moab, UT;

• Uintah County Library, Vernal, UT;

• Duchesne County Library, Duchesne, UT;

• Emery County Library, Castle Dale, UT; and

• Nephi Public Library, Nephi, UT.

PacifiCorp (doing business as Rocky Mountain Power), a regulated public utility, filed an application for a right-of-way to construct, operate and maintain a 500-kilovolt (kV) overhead, alternating current transmission line across public and private lands for the Project on November 28, 2007. Pacificorp amended the application on December 17, 2008; October 11, 2010; January 15, 2013; and April 8, 2015. When completed, the Project will transmit about 1,500 megawatts of electricity generated from renewable sources at planned facilities in Wyoming, as well as from existing thermal sources.

The Project will begin in south central Wyoming near Medicine Bow, at the permitted Aeolus Substation, and traverses from northeast to southwest across northwestern Colorado to the existing Clover Substation near Mona, Utah, a distance of approximately 416 miles.

The facilities will include:

• Construction of a single-circuit, alternating current 500kV overhead transmission line (including associated structures, shield wires, conductors, and insulators) between the Aeolus Substation and Clover Substation;

• Construction of two series compensation stations, at points between the Aeolus and Clover substations, to improve the transport capacity and efficiency of the transmission line;

• Construction of communication regeneration stations associated with the transmission line (approximately every 55 miles);

• Rebuilding of two existing 345kV transmission lines between the Clover and Mona Substations (in the existing rights-of-way);

• Rerouting of the Mona to Huntington 345kV transmission line through the Clover Substation; and

• Relocation of an approximate 2-mile portion of an existing line (Bears Ears to Bonanza 345kV transmission line) to eliminate multiple line crossings in a short distance and avoid the BLM Raven Ridge Area of Critical Environmental Concern.

The Selected Alternative is the Agency Preferred Alternative identified in the Final EIS. The EIS has been developed in accordance with applicable laws, regulations, policies, and plans, and discloses the impacts of the Project. The Selected Alternative was identified as the route that best meets the BLM's purpose and need, and the Applicant's objectives, and that avoids and minimizes minimized impacts to sensitive resources to the extent possible. The ROD addresses the mitigation and monitoring requirements applicable to the Project, including identifying and requiring compensatory mitigation where impacts to sensitive resources cannot be avoided, as further described in the ROD and its appendices.

Based on the analysis in the Final EIS, the ROD also amends five BLM RMPs, as follows:

• Rawlins RMP (Wyoming)—modifies 21 acres of visual resource management (VRM) Class III to Class IV;

• Little Snake RMP (Colorado)—modifies 18 acres of VRM Class III to Class IV;

• Pony Express RMP (Salt Lake Field Office, Utah)—establishes the 1.3 miles of the Project right-of-way as a 250 foot wide utility corridor;

• Price Field Office, Utah—widens a portion of a utility corridor designated in a land use plan from 1 mile to 1.5 miles in width, to include the Project right-of-way; and

• Vernal Field Office, Utah—modifies 58 acres of VRM Class II to Class III.

The approved land use plan amendments specifically amend the RMPs to allow for the development of the Project and ancillary facilities on land managed by the BLM. NEPA disclosure of these plan amendments has been integrated with the EIS process for the Project, including the scoping and public availability periods for the EIS. With these amendments, the Selected Alternative will conform with the applicable the BLM land use plan along the project's route (43 CFR 1610.5-3).

On May 13, 2016, the Notice of Availability (NOA) for the Final EIS and Proposed Land use Plan Amendments for the Project was published in the Federal Register (81 FR 29912). The publication of the NOA initiated a 30-day protest period for the proposed land use planning decisions and a 60-day Governors' consistency review. At the close of the 30-day protest period, five protests were received and subsequently resolved as explained in the Director's Protest Resolution Report, available online at http://bit.ly/2eErxWA. The proposed land use plan amendments were not modified as a result of the protests. Individual protest response letters were sent to the protesting parties.

Copies of the ROD are available for public inspection during normal business hours at the following locations.

• BLM, Wyoming State Office, Public Reading Room, 5353 Yellowstone Road, Cheyenne, Wyoming 82009;

• BLM, Colorado State Office, Public Reading Room, 2850 Youngfield Street, Lakewood, Colorado 80215-7093; and

• BLM, Utah State Office, Public Reading Room, 440 West 200 South, Suite 500, Salt Lake City, Utah 84101-1345.

Simultaneous with the protest period, the Governors of Wyoming, Colorado, and Utah conducted consistency reviews for the proposed land use plan amendments to identify any inconsistencies with State or local plans, policies, or programs. No inconsistencies were identified.

Authority: 40 CFR 1506.6.

Mary Jo Rugwell,
Wyoming State Director.

[FR Doc. 2016-30346 Filed 12-15-16; 8:45 am]

BILLING CODE 4310-22-P